DEPARTMENT OF LABOR

Employment and Training Administration

[TA-W-55,395B]

Dana Undies, Colquitt, GA; Dismissal of Application for Reconsideration

Pursuant to 29 CFR 90.18(C) an application for administrative reconsideration was filed with the Director of the Division of Trade Adjustment Assistance for workers at Dana Undies, Colquitt, Georgia. The application contained no new substantial information which would bear importantly on the Department's determination. Therefore, dismissal of the application was issued.

TA-W-55,395B; Dana Undies, Colquitt, Georgia (October 28, 2004).

Signed at Washington, DC, this 4th day of November 2004.
Timothy Sullivan,
Director, Division of Trade Adjustment Assistance.

[FR Doc. E4-3135 Filed 11-10-04; 8:45 am]

BILLING CODE 4510-30-P